DEPARTMENT OF ENERGY

Office of Energy Efficiency and Renewable Energy

State Energy Advisory Board—Executive Working Group

AGENCY: Department of Energy (DOE).

ACTION: Notice of open teleconference.

SUMMARY: This notice announces a teleconference of the State Energy Advisory Board (STEAB)—Executive Working Group. The Federal Advisory Committee Act (Pub. L. 92-463; 86 Stat. 770), requires that public notice of these teleconferences be announced in the Federal Register. No official business will be conducted—this is for information sharing only.

DATES: June 22, 2006, from 2 p.m. to 3 p.m. e.d.t.

FOR FURTHER INFORMATION CONTACT: Gary Burch, STEAB Designated Federal Officer, Director, Central Regional Office, Energy Efficiency and Renewable Energy (EERE), U.S. Department of Energy, 1617 Cole Boulevard, Golden, CO 80401, Telephone 303/275-4801.

SUPPLEMENTARY INFORMATION: Purpose of the Board: To make recommendations to the Assistant Secretary for Energy Efficiency and Renewable Energy regarding goals and objectives, programmatic and administrative policies, and to otherwise carry out the Board's responsibilities as designated in the State Energy Efficiency Programs Improvement Act of 1990 (Pub. L. 101-440).

Tentative Agenda: Update members on routine business matters. No official actions will be taken.

Public Participation: The teleconference is open to the public. Written statements may be filed with the Board either before or after the meeting. Members of the public who wish to make oral statements pertaining to agenda items should contact Gary Burch at the address or telephone number listed above. Requests to make oral comments must be received five days prior to the conference call; reasonable provision will be made to include requested topic(s) on the agenda. The Chair of the Board is empowered to conduct the call in a fashion that will facilitate the orderly conduct of business. This notice is being published less than 15 days before the date of the meeting due to programmatic issues.

Notes: The notes of the teleconference will be available for public review and copying within 60 days at the Freedom of Information Public Reading Room, 1E-190, Forrestal Building, 1000 Independence Avenue, SW., Washington, DC, between 9 a.m. and 4 p.m., Monday through Friday, except Federal holidays.

Issued at Washington, DC, on June 7, 2006.
Rachel Samuel,
Deputy Advisory Committee Management Officer.

[FR Doc. E6-9218 Filed 6-12-06; 8:45 am]

BILLING CODE 6450-01-P